GENERAL SERVICES ADMINISTRATION

41 CFR Part 302-17

[FTR Amendment 2008-03; FTR Case 2008-302; Docket 2008-002, Sequence 1]

RIN 3090-AI48

Federal Travel Regulation; Relocation Income Tax (RIT) Allowance Tax Tables—2008 Update; Correction

AGENCY: Office of Governmentwide Policy, General Services Administration (GSA).

ACTION: Correcting amendments.

SUMMARY: The General Services Administration published a document in the Federal Register on May 7, 2008 (73 FR 25539), that updated Federal, State, and Puerto Rico tax tables for calculating the relocation income tax (RIT) allowance. This document corrects that final rule.

DATES: Effective Date: This final rule is effective May 19, 2008.

Applicability date: January 1, 2008.

FOR FURTHER INFORMATION CONTACT: The Regulatory Secretariat (VPR), Room 4035, GSA Building, Washington, DC 20405, telephone (202) 501-4755, for information pertaining to status or publication schedules. For clarification of content, contact Ed Davis, Office of Governmentwide Policy, Travel Management Policy (MTT), Washington, DC 20405, telephone (202) 208-7638. Please cite the correction to FTR Amendment 2008-03, FTR case 2008-302.

SUPPLEMENTARY INFORMATION:

A. Background

A final rule was published in the Federal Register on May 7, 2008 (73 FR 25539). This document makes corrections to that final rule.

List of Subjects in 41 CFR Part 302-17

Government employees, Income taxes, Relocation allowances and entitlements, Transfers, Travel and transportation expenses.

Dated: May 12, 2008.
Henry Maury,
Director, Relocation Management Policy.

Accordingly, 41 CFR part 302-17 is corrected by making the following correcting amendments:

PART 302-17—RELOCATION INCOME TAX (RIT) ALLOWANCE

1. The authority citation for 41 CFR part 302-17 is amended to read as follows:

Authority: 5 U.S.C. 5738; 20 U.S.C. 905(a); E.O. 11609, as amended, 36 FR 13747, 3 CFR, 1971-1975 Comp., p. 586.

2. Revise Appendix A to part 302-17 to read as follows:

Appendix A to Part 302-17—Federal Tax Tables for RIT Allowance

Federal Marginal Tax Rates by Earned Income Level and Filing Status—Tax Year 2007
[Use the following table to compute the RIT allowance for Federal taxes, as prescribed in 302-17.8(e)(1), on Year 1 taxable reimbursements received during calendar year 2007]
Marginal tax rate: Percent | Single taxpayer: Over | Single taxpayer: But not over | Head of household: Over | Head of household: But not over | Married filing jointly/qualifying widows & widowers: Over | Married filing jointly/qualifying widows & widowers: But not over | Married filing separately: Over | Married filing separately: But not over
10 | $9,287 | $17,545 | $18,060 | $29,399 | $26,173 | $41,393 | $14,049 | $21,441
15 | 17,545 | 43,394 | 29,399 | 62,576 | 41,393 | 91,201 | 21,441 | 45,388
25 | 43,394 | 93,101 | 62,576 | 138,856 | 91,201 | 162,117 | 45,388 | 81,616
28 | 93,101 | 183,867 | 138,856 | 216,022 | 162,117 | 233,656 | 81,616 | 119,660
33 | 183,867 | 376,616 | 216,022 | 389,045 | 233,656 | 387,765 | 119,660 | 197,483

3. Revise Appendix C to part 302-17 to read as follows:

Appendix C to Part 302-17—Federal Tax Tables for RIT Allowance—Year 2

Estimated Ranges of Wage and Salary Income Corresponding to Federal Statutory Marginal Income Tax Rates by Filing Status In 2008
[The following table is used to determine the Federal marginal tax rate for Year 2 for computation of the RIT allowance as prescribed in 301-17.8(e)(1). This table is to be used for employees whose Year 1 occurred during calendar years 1998, 1999, 2000, 2001, 2002, 2003, 2004, 2005, 2006 or 2007]
Marginal tax rate: Percent | Single taxpayer: Over | Single taxpayer: But not over | Head of household: Over | Head of household: But not over | Married filing jointly/qualifying widows & widowers: Over | Married filing jointly/qualifying widows & widowers: But not over | Married filing separately: Over | Married filing separately: But not over
10 | $9,597 | $18,107 | $18,364 | $30,153 | $27,463 | $42,942 | $14,203 | $21,913
15 | 18,107 | 44,461 | 30,153 | 64,200 | 42,942 | 94,016 | 21,913 | 46,764
25 | 44,461 | 95,997 | 64,200 | 142,780 | 94,016 | 167,442 | 46,764 | 84,076
28 | 95,997 | 191,453 | 142,780 | 225,385 | 167,442 | 243,961 | 84,076 | 124,354
33 | 191,453 | 390,566 | 225,385 | 405,567 | 243,961 | 404,547 | 124,354 | 205,412
35 | 390,566 |  | 405,567 |  | 404,547 |  | 205,412 |

[FR Doc. E8-11084 Filed 5-16-08; 8:45 am]

BILLING CODE 6820-14-P